DEPARTMENT OF EDUCATION

National Assessment Governing Board Quarterly Board Meeting

AGENCY: National Assessment Governing Board, U.S. Department of Education.

ACTION: Announcement of open and closed meetings.

SUMMARY: This notice sets forth the agenda for the March 5-7, 2015 Quarterly Meeting of the National Assessment Governing Board (hereafter referred to as Governing Board). This notice provides information to members of the public who may be interested in attending the meeting or providing written comments on the meeting. The notice of this meeting is required under Section 10(a)2) of the Federal Advisory Committee Act (FACA).

DATES: The Quarterly Board meeting will be held on the following dates:

March 5, 2015 from 11:30 a.m. to 6:00 p.m.; March 6, 2015 from 8:30 a.m. to 5:00 p.m.; March 7, 2015 from 7:30 a.m. to 12:00 p.m.

ADDRESSES: The Westin Crystal City, 1800 Jefferson Davis Highway, Arlington, VA 22202.

FOR FURTHER INFORMATION CONTACT: Munira Mwalimu, Executive Officer, 800 North Capitol Street NW., Suite 825, Washington, DC 20002, telephone: (202) 357-6938, fax: (202) 357-6945.

SUPPLEMENTARY INFORMATION:

Statutory Authority and Function: The National Assessment Governing Board is established under Title III—National Assessment of Educational Progress Authorization Act, Public Law 107-279. Information on the Board and its work can be found at www.nagb.gov.

The Board is established to formulate policy for the National Assessment of Educational Progress (NAEP). The Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

Detailed Meeting Agenda: March 5-March 7, 2015

March 5: Committee Meetings

Assessment Literacy Work Group: Open Session: 11:30 a.m.—4:00 p.m.

Executive Committee: Open Session: 4:30 p.m.-5:00 p.m.; Closed Session: 5:00 p.m.-5:55 p.m.; Open Session: 5:55 p.m.-6:00 p.m.

March 6: Full Board and Committee Meetings

Full Board: Open Session: 8:30 a.m.-9:45 a.m.; Closed Session 12:45 p.m.-1:45 p.m.; Open Session 2:00 p.m.-3:30 p.m.; Closed Session 3:45 p.m.-4:45 p.m.; Open Session 4:45 p.m.-5:00 p.m.

Committee Meetings

Reporting and Dissemination Committee (R&D): Open Session: 10:00 a.m.-12:30 p.m.

Committee on Standards, Design and Methodology (COSDAM): Open Session: 10:00 a.m.-12:30 p.m.

Assessment Development Committee (ADC): Open Session: 10:00 a.m.-11:30 p.m.; Closed Session: 11:30 a.m.-12:30 p.m.

March 7: Full Board and Committee Meetings

Nominations Committee: Closed Session: 7:30 a.m.-8:15 a.m.

Full Board: Closed Session: 8:30 a.m.-8:50 a.m. Open Session 8:50 a.m.-12:00 p.m.

On March 5, 2015, from 11:30 a.m. to 4:00 p.m., the Assessment Literacy Work Group will meet in open session to discuss assessment literacy strategies and timelines related to their work on supporting a better understanding of educational tests among parents, students, policy makers, and members of the general public.

The Board's Executive Committee will convene in open session on March 5, 2015 from 4:30 p.m. to 5:00 p.m. to review and discuss the March 6-7, 2015 Board meeting agenda, receive updates on the Executive Director recruitment process, NAEP budget, and reauthorization.

Following this session, the Executive Committee will meet in closed session from 5:00 p.m. to 5:55 p.m. to receive and discuss cost estimates on various options for implementing NAEP for 2014-2024 based on the President's FY 2016 budget request. The implications of the cost estimates and funds in support of the NAEP Assessment Schedule and future NAEP activities will also be discussed. This meeting must be conducted in closed session because public disclosure of this information would likely have an adverse financial effect on the NAEP program by providing confidential cost details and proprietary contract costs of current contractors to the public. Discussion of this information would be likely to significantly impede implementation of a proposed agency action if conducted in open session. Such matters are protected by exemption 9(B) of section 552b of Title 5 U.S.C.

The Executive Committee will then meet in open session from 5:55 p.m. to 6:00 p.m. to take action on the NAEP Schedule of Assessments.

On March 6, 2015, the full Board will meet in open session from 8:30 a.m. to 9:45 a.m. The Board will review and approve the March 6-7, 2015 Board meeting agenda and meeting minutes from the November 21-22, 2014 Quarterly Board meeting. This session will be followed by the Chairman's remarks. Thereafter, the Executive Director of the Governing Board will provide a report, followed by an update on the Institute of Education Sciences (IES) from the Acting Director and an update on NCES from the Acting Commissioner. The Board will recess for Committee meetings from 10:00 a.m. to 12:30 p.m.

The Reporting and Dissemination Committee and the Committee on Standards, Design and Methodology (COSDAM) will meet in open sessions from 10:00 a.m. to 12:30 p.m. to discuss their ongoing work and policy matters.

The Assessment Development Committee will meet in open session from 10:00 a.m. to 11:30 a.m. to discuss ongoing work and in closed session from 11:30 a.m. to 12:30 p.m. During the closed session, the Committee will receive a briefing on transitioning NAEP to digital based assessments. The briefing will be in-depth, with discussion of secure NAEP U.S. history, civics, and geography test questions at grades 8 and 12 and how those questions will be transitioned from a paper-and-pencil format to a digital-based platform for the 2018 NAEP operational assessment. This part of the meeting must be conducted in closed session because the items are to be used in NAEP assessments; public disclosure of secure test items would significantly impede implementation of the NAEP assessment program if conducted in open session. Such matters are protected by exemption 9(B) of § 552b of Title 5 U.S.C.

Following the Committee meetings, the Board will convene in closed session from 12:45 p.m. to 1:45 p.m. to receive a briefing and discuss the NAEP 2012 grade 8 civics, geography, and U.S. history report cards. This part of the meeting must be conducted in closed session because results of these NAEP assessments have been embargoed and are not ready for public release. Public disclosure of this information would likely have an adverse technical and financial impact on the NAEP program. Discussion of this information would be likely to significantly impede implementation of a proposed agency action if conducted in open session. Such matters are protected by exemption 9(B) of § 552b of Title 5 U.S.C.

On March 6, 2015 from 2:00 p.m. to 3:30 p.m., the Board will meet in open session to receive a briefing and discuss the NAEP Assessment of English Language Learners.

Thereafter, the Board will meet in closed session from 3:45 p.m. to 4:45 p.m. to review and discuss independent government costs estimates for subjects to be assessed under the proposed NAEP Schedule of Assessments. This session will be an in-depth briefing and discussion to examine specific costs for assessing NAEP subjects, including cost projections for moving NAEP to digital-based assessments, which will impact the NAEP schedule from 2016-2024. This part of the meeting must be conducted in closed session because public disclosure of this information would likely have an adverse financial effect on the NAEP program by providing contractors attending the Board meeting an unfair advantage in procurement and contract negotiations for NAEP. Discussion of this information would be likely to significantly impede implementation of a proposed agency action if conducted in open session. Such matters are protected by exemption 9(B) of § 552b of Title 5 U.S.C.

Following this closed session, from 4:45 p.m. to 5:00 p.m., the Board will meet in open session to take action on the NAEP Schedule of Assessments. The March 6, 2015 session will adjourn at 5:00 p.m.

On March 7, 2015, the Nominations Committee will meet in closed session from 7:30 a.m. to 8:15 a.m. to discuss candidates for the eight Board vacancies for terms beginning on October 1, 2015. The Committee's discussions pertain solely to internal personnel rules and practices of an agency and information of a personal nature where disclosure would constitute an unwarranted invasion of personal privacy. As such, the discussions are protected by exemptions 2 and 6 of § 552b(c) of Title 5 of the United States Code.

On March 7, 2015, the Board will meet in closed session from 8:30 a.m. to 8:50 a.m. to receive a briefing from the Nominations Committee on proposed candidates for Board vacancies for the October 1, 2015 Board term. These discussions pertain solely to internal personnel rules and practices of an agency and information of a personal nature where disclosure would constitute an unwarranted invasion of personal privacy. As such, the discussions are protected by exemptions 2 and 6 of § 552b(c) of Title 5 of the United States Code.

From 8:50 a.m. to 9:00 a.m., the Board will take action on the proposed 2015 slate of finalists for the eight Board positions.

From 9:15 a.m. to 10:30 a.m., the Board will discuss a strategic planning initiative in open session. Following this session, from 10:45 a.m. to 12:00 p.m. the Board will receive reports from the standing committees and the Assessment Literacy Work Group. The Board will take action on committee recommendations to include action on a proposed release plan for the 2014 NAEP Report Cards in civics, geography, and U.S. history.

From 11:45 a.m. to 12:00 p.m., the Board will preview plans for the upcoming May 2015 quarterly Board meeting. The March 7, 2015 meeting is scheduled to adjourn at 12:00 p.m.

Access to Records of the Meeting: Pursuant to FACA requirements, the public may also inspect the meeting materials at www.nagb.gov on Friday, March 6, 2015 by 9:00 a.m. ET. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: Public Law 107-279, Title III—National Assessment of Educational Progress § 301.

Dated: February 9, 2015.
Munira Mwalimu,
Executive Officer, National Assessment Governing Board (NAGB), U.S. Department of Education.

[FR Doc. 2015-02969 Filed 2-11-15; 8:45 am]

BILLING CODE P